DEPARTMENT OF AGRICULTURE

Animal and Plant Health Inspection Service

7 CFR Part 301

[Docket No. 00-036-1]

Citrus Canker; Addition to Quarantined Areas

AGENCY: Animal and Plant Health Inspection Service, USDA.

ACTION: Interim rule and request for comments.

SUMMARY: We are amending the citrus canker regulations by adding portions of Hendry, Hillsborough, and Palm Beach Counties, FL, to the list of quarantined areas and by expanding the boundaries of the quarantined areas in Broward, Collier, Dade, and Manatee Counties, FL, due to recent detections of citrus canker in these areas. This action is necessary on an emergency basis to prevent the spread of citrus canker into noninfested areas of the United States. This action imposes restrictions on the interstate movement of regulated articles from and through the quarantined areas.

DATES: This interim rule was effective August 29, 2000. We invite you to comment on this docket. We will consider all comments that we receive by November 6, 2000.

ADDRESSES: Please send your comment and three copies to: Docket No. 00-036-1, Regulatory Analysis and Development, PPD, APHIS, Suite 3C03, 4700 River Road, Unit 118, Riverdale, MD 20737-1238. Please state that your comment refers to Docket No. 00-036-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Stephen Poe, Operations Officer, Program Support Staff, PPQ, APHIS, 4700 River Road Unit 134, Riverdale, MD 20737-1236; (301) 734-8899.

SUPPLEMENTARY INFORMATION:

Background

Citrus canker is a plant disease that affects plants and plant parts, including fresh fruit, of citrus and citrus relatives (Family Rutaceae). Citrus canker can cause defoliation and other serious damage to the leaves and twigs of susceptible plants. It can also cause lesions on the fruit of infected plants, which renders the fruit unmarketable, and cause infected fruit to drop from the trees before reaching maturity. The aggressive A (Asiatic) strain of citrus canker can infect susceptible plants rapidly and lead to extensive economic losses in commercial citrus-producing areas.

The regulations to prevent the interstate spread of citrus canker are contained in 7 CFR 301.75-1 through 301.75-14 (referred to below as the regulations). The regulations restrict the interstate movement of regulated articles from and through areas quarantined because of citrus canker and provide for the designation of survey areas around quarantined areas. Survey areas undergo close monitoring by Animal and Plant Health Inspection Service (APHIS) and State inspectors for citrus canker and serve as buffer zones against the disease.

Under § 301.75-4(c) of the regulations, any State or portion of a State where an infestation is detected will be designated as a quarantined area and will retain that designation until the area has been free from citrus canker for 2 years.

Section 301.75-4, paragraph (d), of the regulations provides that less than an entire State will be designated as a quarantined area only if certain conditions are met. The State must, with certain specified exceptions, enforce restrictions on the intrastate movement of regulated articles from the quarantined area that are at least as stringent as those being enforced on the interstate movement of regulated articles from the quarantined area. The State must also undertake the destruction of all infected plants and trees. Under the regulations in § 301.75-6(c), within 7 days after confirmation that a plant or tree is infected, the State must provide written notice to the owner that the plant or tree must be destroyed. The owner then has 45 days in which to destroy the infected plant or tree. These State-conducted eradication activities within quarantined areas are an integral element of a cooperative State/Federal citrus canker program that, when successfully completed, will result in the eradication of citrus canker and the removal of an area's designation as a quarantined area.

New infestations of citrus canker have been detected on properties in Broward, Collier, Dade, and Manatee Counties, FL, that lie outside the previously quarantined areas, and in areas in Hendry, Hillsborough, and Palm Beach Counties, FL, which previously did not contain any quarantined areas. The State of Florida has placed these new areas under State quarantine and is enforcing restrictions on the intrastate movement of regulated articles from these quarantined areas. We have determined that Florida's restrictions on the intrastate movement of regulated articles from the quarantined areas are at least as stringent as those on the interstate movement of regulated articles from the quarantined areas. Therefore, as provided in § 301.75-4(d), we are designating areas less than the entire State as quarantined areas.

Specifically, we are amending the regulations by adding two areas in Hendry County, FL, one area in Hillsborough County, FL, and a combined area in Broward, Dade, and Palm Beach Counties, FL, to the list of quarantined areas. The combined entry includes the portion of Broward and Dade Counties, FL, that was previously designated as a quarantined area. We are also expanding the previously quarantined areas in Collier and Manatee Counties, FL. An exact description of the quarantined areas can be found in the rule portion of this document.

These new and expanded quarantined areas include a buffer zone around the areas where infection has been detected. The buffer zone extends at least 1 mile from the edge of any premises where citrus canker has been detected, with the exception of that portion of the quarantined area that is adjacent to the Florida Everglades. Along that edge of the quarantine boundary, there is no buffer zone because no host material occurs in the Everglades. In most cases, the buffer zone extends several miles from the edge of any premises where citrus canker has been detected, but the exact distance varies. This is because we drew the boundary lines by using the nearest observable landmarks, such as roads or rivers, or political boundaries, so that the boundary lines can be easily identified.

Emergency Action

This rulemaking is necessary on an emergency basis to prevent the spread of citrus canker into noninfested areas of the United States. Under these circumstances, the Administrator has determined that prior notice and opportunity for public comment are contrary to the public interest and that there is good cause under 5 U.S.C. 553 for making this rule effective less than 30 days after publication in the Federal Register.

We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. The rule has been determined to be not significant for the purposes of Executive Order 12866 and, therefore, has not been reviewed by the Office of Management and Budget.

We are amending the citrus canker regulations by adding portions of Hendry, Hillsborough, and Palm Beach Counties, FL, to the list of quarantined areas and by expanding the boundaries of the quarantined areas in Broward, Collier, Dade, and Manatee Counties, FL, due to recent detections of citrus canker in these areas. This action is necessary on an emergency basis to prevent the spread of citrus canker into noninfested areas of the United States. This action restricts the interstate movement of regulated articles from and through the quarantined areas.

This emergency situation makes timely compliance with section 604 of the Regulatory Flexibility Act (5 U.S.C. 601 et seq.) impracticable. We are currently assessing the potential economic effects of this action on small entities. Based on that assessment, we will either certify that the rule will not have a significant economic impact on a substantial number of small entities or publish a final regulatory flexibility analysis.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

National Environmental Policy Act

An environmental assessment and finding of no significant impact have been prepared for this interim rule. The assessment provides a basis for the conclusion that the selected citrus canker eradication program will not have a significant impact on the quality of the human environment. Based on the finding of no significant impact, the Administrator of the Animal and Plant Health Inspection Service has determined that an environmental impact statement need not be prepared.

The environmental assessment and finding of no significant impact were prepared in accordance with: (1) The National Environmental Policy Act of 1969, as amended (NEPA) (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Copies of the environmental assessment and finding of no significant impact are available for public inspection at USDA, room 1141, South Building, 14th Street and Independence Avenue, SW., Washington, DC, between 8 a.m. and 4:30 p.m., Monday through Friday, except holidays. Persons wishing to inspect copies are requested to call ahead on (202) 690-2817 to facilitate entry into the reading room. In addition, copies may be obtained by writing to the individual listed under FOR FURTHER INFORMATION CONTACT.

Paperwork Reduction Act

This rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: Title IV, Pub. L. 106-224, 114 Stat. 438, 7 U.S.C. 7701-7772; 7 U.S.C. 166; 7 CFR 2.22, 2.80, and 371.3.

2. In § 301.75-4, paragraph (a) is revised to read as follows:

§ 301.75-4 Quarantined areas.

(a) The following States or portions of States are designated as quarantined areas:

Florida

Broward, Dade, and Palm Beach Counties. That portion of the counties bounded by a line drawn as follows: Beginning at the intersection of the shoreline of the Atlantic Ocean and the Broward/Palm Beach County line; then west along the Broward/Palm Beach County line to the eastern boundary of the Loxahatchee Conservation Area; then south along the eastern boundary of the Loxahatchee Conservation Area to the Sawgrass Expressway; then south along the Sawgrass Expressway to Interstate Highway 75; then north along Interstate Highway 75 to U.S. Highway 27; then south along U.S. Highway 27 to the Florida Turnpike Homestead Extension; then south along the Florida Turnpike Homestead Extension to NW 58th Street; then west along NW 58th Street to Krome Avenue (NW 177th Avenue); then south along Krome Avenue (NW and SW 177th Avenue) to U.S. Highway 41 (Tamiami Trail); then west along U.S. Highway 41 (Tamiami Trail) to sec. 11, 14, 23, 26, 35, and lot 2, T. 54, R. 38; then south along sec. 11, 14, 23, 26, 35, and lot 2, T. 54, R. 38, to sec. 2 and 11, T. 55, R. 38; then south along sec. 2 and 11, T. 55, R. 38, to SW 197th Avenue; then south along SW 197th Avenue to SW 152nd Street; then west along SW 152nd Street to the L-31N Canal; then south and west along the L-31N Canal to the shoreline of the Florida Bay; then east along the shoreline of the Florida Bay to the shoreline of the Atlantic Ocean; then north along the shoreline of the Atlantic Ocean to the point of beginning.

Collier County. That portion of the county bounded by a line drawn as follows: Beginning at the intersection of State Highway 29 and County Road 858; then west along County Road 858 to sec. 13, T. 48 S., R. 29 E.; then north along sec. 13, T. 48 S., R. 29 E., to sec. 25, T. 47 S., R. 29 E.; then east along sec. 25, T. 47 S., R. 29 E., to sec. 30, T. 47 S., R. 30 E.; then north along sec. 30, T. 47 S., R. 30 E., to sec. 19, T. 47 S., R. 30 E.; then east along sec. 19, T. 47 S., R. 30 E., to sec. 20, T. 47 S., R. 30 E.; then south along sec. 20, T. 47 S., R. 30 E., to sec. 29, T. 47 S., R. 30 E.; then east along sec. 29, T. 47 S., R. 30 E., to sec. 28, T. 47 S., R. 30 E.; then south along sec. 28, T. 47 S., R. 30 E., to sec. 33, T. 47 S., R. 30 E.; then east along sec. 33, T. 47 S., R. 30 E., to the Collier/Hendry County line; then south along the Collier/Hendry County line to sec. 25, T. 48 S., R. 30 E.; then west along sec. 25, T. 48 S., R. 30 E., to State Highway 29; then north along State Highway 29 to the point of beginning.

Hendry County. That portion of the county bounded by a line drawn as follows: Beginning at the northwest corner of sec. 7, T. 48 S., R. 33 E.; then east along sec. 7, T. 48 S., R. 33 E., to Government Road; then north along Government Road to State Road 833; then north along State Road 833 to sec. 11, T. 48 S., R. 33 E.; then east along sec. 11, T. 48 S., R. 33 E., to sec. 24, T. 48 S., R. 33 E.; then west along sec. 24, T. 48 S., R. 33 E., to sec. 19, T. 48 S., R. 33 E.; then north along sec. 19, T. 48 S., R. 33 E., to the point of beginning.

That portion of the county bounded by a line drawn as follows: Beginning at the intersection of State Road 835 and Deer Fence Road; then north along Deer Fence Road to sec. 6; then east along sec. 6 to sec. 2; then south along sec. 2 to sec. 35; then west along sec. 35 to the point of beginning.

Hillsborough County. That portion of the county bounded by a line drawn as follows: Beginning at the northwest corner of sec. 34, T. 31, R. 19; then south along sec. 34, T. 31, R. 19, to 24th Street NE; then south along 24th Street NE to sec. 3 and 10, T. 32, R. 19; then south along sec. 3 and 10, T. 32, R. 19, to 24th Street SE; then south along 24th Street SE to sec. 15, 14, and 13, T. 32, R. 19; then east along sec. 15, 14, and 13, T. 32, R. 19, to sec. 18, T. 32, R. 20; then east along sec. 18, T. 32, R. 20, to Bishop Road; then east along Bishop Road to West Lake Drive; then north along West Lake Drive to sec. 32 and 31, T. 31, R. 20; then west along sec. 32 and 31, T. 31, R. 20, to sec. 36, 35, and 34, T. 31, R. 19; then west along sec. 36, 35, and 34, T. 31, R. 19, to the point of beginning.

Manatee County. That portion of the county bounded by a line drawn as follows: Beginning at the intersection of Interstate Highway 75 and the shoreline of the Manatee River; then west along the shoreline of the Manatee River to the shoreline of the Terra Ceia Bay; then northeast along the shoreline of the Terra Ceia Bay to sec. 25, 24, 13, 12, and 1, T. 33 S., R. 17 E.; then north along sec. 25, 24, 13, 12, and 1, T. 33 S., R. 17 E., to the Manatee/Hillsborough County line; then east along the Manatee/Hillsborough County line to sec. 3 and 10, T. 33 S., R. 18 E.; then south along sec. 3 and 10, T. 33 S., R. 18 E., to Carter Road; then south along Carter Road to sec. 22 and 27, T. 33 S., R. 18 E.; then south along sec. 22 and 27, T. 33 S., R. 18 E., to 69th Street East; then east along 69th Street East to Erie Road; then south along Erie Road to U.S. Highway 301; then southwest along U.S. Highway 301 to Interstate Highway 75; then south along Interstate Highway 75 to the point of beginning.

That portion of the county bounded by a line drawn as follows: Beginning at the northwest corner of sec. 8, 9, 10, 11, and 12, T. 33 S., R. 21 E.; then east along sec. 8, 9, 10, 11, and 12, T. 33 S., R. 21 E., to sec. 12, T. 33 S., R. 21 E.; then south along sec. 12, T. 33 S., R. 21 E., to sec. 18, 19, 30, and 31, T. 33 S., R. 22 E.; then east along sec. 18, 19, 30, and 31, T. 33 S., R. 22 E., to sec. 6, T. 34 S., R. 22 E.; then south along sec. 6, T. 34 S., R. 22 E., to sec. 7, T. 34 S., R. 22 E.; then west along sec. 7, T. 34 S., R. 22 E., to sec. 12, 11, 10, and 9, T. 34 S., R. 21 E.; then south along sec. 12, 11, 10, and 9, T. 34 S., R. 21 E., to sec. 8 and 5, T. 34 S., R. 21 E.; then north along sec. 8 and 5, T. 34 S., R. 21 E., to sec. 31, 29, 20, 17, and 8, T. 33 S., R. 21 E.; then north along sec. 31, 29, 20, 17, and 8, T. 33 S., R. 12 E., to the point of beginning.

* * * * *

Done in Washington, DC, this 29th day of August 2000.
Bobby R. Acord,
Acting Administrator, Animal and Plant Health Inspection Service.

[FR Doc. 00-22636 Filed 9-1-00; 8:45 am]

BILLING CODE 3410-01-U